DEPARTMENT OF ENERGY

Office of Energy Efficiency and Renewable Energy

10 CFR Part 490

RIN 1904-AB00

Alternative Fuel Transportation Program; Biodiesel Fuel Use Credit

AGENCY: Office of Energy Efficiency and Renewable Energy, Department of Energy (DOE).

ACTION: Final rule, completion of regulatory review.

SUMMARY: In accordance with the memorandum of January 20, 2001, from the Assistant to the President and Chief of Staff, entitled “Regulatory Review Plan,” published in the Federal Register on January 24, 2001 (66 FR 7702), DOE temporarily delayed for 60 days (66 FR 8746, February 2, 2001) the effective date of the final rule entitled “Alternative Fuel Transportation Program; Biodiesel Fuel Use Credit” published in the Federal Register on January 11, 2001 (66 FR 2207). DOE has now completed its review of that regulation, and does not intend to initiate any further rulemaking action to modify its provisions.

DATES: The effective date of the rule amending 10 CFR part 490 published at 66 FR 2207, January 11, 2001, and delayed at 66 FR 8746, February 2, 2001, is confirmed as April 13, 2001.

FOR FURTHER INFORMATION CONTACT: David Rodgers, Office of Energy Efficiency and Renewable Energy, (202) 586-9118, david.rodgers@hq.doe.gov.

Issued in Washington, DC on April 24, 2001.
Spencer Abraham,
Secretary of Energy.

[FR Doc. 01-10771 Filed 5-1-01; 8:45 am]

BILLING CODE 6450-01-P